DEPARTMENT OF HOMELAND SECURITY

U.S. Customs and Border Protection

Notice of Intent To Prepare One Programmatic Environmental Impact Statement for the Northern Border Between the United States and Canada

AGENCY: U.S. Customs and Border Protection, DHS.

ACTION: Notice of intent.

SUMMARY: U.S. Customs and Border Protection (CBP) informs the public that it intends to prepare one Programmatic Environmental Impact Statement (PEIS) for the Northern Border between the United States and Canada. Previously, CBP had published a notice in the Federal Register stating that CBP intended to prepare four such documents, each covering a different region of the Northern Border. However, after conducting a public scoping process, CBP has determined that it would be preferable to produce one document covering the entire Northern Border to ensure that CBP effectively analyzes and conveys impacts that occur across the region of the Northern Border. The overall anticipated area of study, extending approximately 100 miles south of the Northern Border, will remain the same.

FOR FURTHER INFORMATION CONTACT: Jennifer Hass, CBP, Office of Administration, telephone (202) 344-1929. You may also visit the Northern Border PEIS Web site at: http://www.NorthernBorderPEIS.com.

SUPPLEMENTARY INFORMATION:

Background

On July 6, 2010, CBP published in the Federal Register (75 FR 38822) a document entitled Notice of Intent to Prepare Four Programmatic Environmental Impact Statements for the Northern Border Between the United States and Canada and To Conduct Public Scoping Meetings. The notice announced that CBP intended to prepare four Programmatic Environmental Impact Statements (PEISs) to analyze the environmental effects of current and potential future CBP border security activities along the Northern Border between the United States and Canada. Each PEIS was to cover one region of the Northern Border: the New England region, the Great Lakes region, the region east of the Rocky Mountains, and the region west of the Rocky Mountains.

The notice also announced and initiated the public scoping process to gather information from the public in preparation for drafting the PEISs. In this scoping process, CBP solicited written comments from the public and held 11 public scoping meetings in locations near the Northern Border. CBP conducted this public scoping process in order to obtain input concerning the range of environmental considerations for inclusion within the PEISs. As indicated in the prior notice, the scoping period concluded on August 5, 2010.

As a result of input received during the scoping process, CBP has decided to refocus its approach and develop one PEIS covering the entire Northern Border, rather than four separate, regional PEISs. Through this refocused approach, CBP will further clarify the proposed action, alternatives, and potential impacts across the four previously identified regions. CBP's principal reasons for preparing a single PEIS with sections for each region are:

(1) CBP's need to identify a single unified proposal and alternatives for maintaining or enhancing security along the Northern Border, and

(2) Certain resources of concern for this PEIS extend or move across the PEIS regions previously identified (e.g. habitat of various wildlife). Thus, to ensure that CBP effectively analyzes and conveys impacts that occur across regions of the Northern Border, a unified PEIS is desirable. The overall anticipated area of study, extending approximately 100 miles south of the Northern Border, remains the same.

CBP is continuing to review the results of the scoping process and, as described in the July 6 notice, will compile a list of comments received to be included in a scoping report. This report will be made available on the project Web site: http://www.NorthernBorderPEIS.com and upon written request. Written requests for the scoping report may be made via e-mail to comments@NorthernBorderPEIS.com, subject: Scoping Report, or via mail to CBP Northern Border PEIS (Scoping Report), P.O. Box 3625, McLean, Virginia, 22102. The body of the request should read, “Request a copy of the scoping report for U.S. Customs and Border Protection Northern Border PEIS.” CBP anticipates the scoping report will be available in November 2010.

The information gained from the scoping process will aid CBP as it prepares the draft PEIS. This draft PEIS will be followed, after a period of public comment, with a final PEIS. CBP plans to use the information derived from the analysis in the PEIS in management, planning, and decision-making for its mission and its environmental stewardship responsibilities, as well as to establish a foundation for future impact analyses. For complete information, please see the July 6 Federal Register notice (75 FR 38822).

Next Steps

This environmental analysis process is being conducted pursuant to the National Environmental Policy Act of 1969, 42 U.S.C. 4321 et seq., (NEPA), the Council on Environmental Quality Regulations for Implementing the NEPA (40 CFR parts 1500-1508), and Department of Homeland Security Directive 023-01 (renumbered from 5100.1), Environmental Planning Program of April 19, 2006. In accordance with NEPA, the draft PEIS will be made available to the public for review and comment through a Notice of Availability (NOA) in the Federal Register. The NOA will provide directions for obtaining copies of the draft PEIS as well as dates and locations for any associated public participation meetings. After a public comment period on the draft PEIS, CBP will complete a final PEIS. CBP will continue to announce information on exact locations and times of public meetings as well as project information through local newspapers and the project Web site: http://www.NorthernBorderPEIS.com.

Dated: November 4, 2010.
Rob Janson,
Acting Executive Director, Facilities Management and Engineering, Office of Administration.

[FR Doc. 2010-28239 Filed 11-8-10; 8:45 am]

BILLING CODE 9111-14-P